FEDERAL ELECTION COMMISSION

Sunshine Act Meeting

AGENCY: Federal Election Commission

DATE & TIME: Tuesday, May 23, 2017 at 10:00 a.m. and its continuation at the conclusion of the open meeting on May 25, 2017.

PLACE: 999 E Street NW., Washington, DC.

STATUS: This meeting will be closed to the public.

ITEM TO BE DISCUSSED: Compliance matters pursuant to 52 U.S.C. 30109.

* * * * *

PERSON TO CONTACT FOR INFORMATION: Judith Ingram, Press Officer, Telephone: (202) 694-1220.

Dayna C. Brown,
Secretary and Clerk of the Commission.

[FR Doc. 2017-10287 Filed 5-17-17; 11:15 am]

BILLING CODE 6715-01-P